DEPARTMENT OF TRANSPORTATION

Federal Aviation Administration

14 CFR Part 25

[Docket No. NM356; Special Conditions No. 25-334-SC]

Special Conditions: Boeing Model 737-700 IGW Airplane (BBJ, S/N 34683); Certification of Cooktops

AGENCY: Federal Aviation Administration (FAA), DOT.

ACTION: Final special conditions; request for comments.

SUMMARY: The FAA issues these special conditions for the Boeing Model 737-700 IGW airplane (BBJ serial number 34683). This airplane, as modified by PATS Aircraft LLC, will have a novel or unusual design feature when compared to the state of technology envisioned in the airworthiness standards for transport category airplanes. The modification consists of installing an electrically heated surface, called a cooktop. The applicable airworthiness regulations do not contain adequate or appropriate safety standards for this design feature. These special conditions contain the additional safety standards that the Administrator considers necessary to establish a level of safety equivalent to that established by the existing airworthiness standards.

DATES: The effective date of these special conditions is October 13, 2006. We must receive your comments by December 15, 2006.

ADDRESSES: You may mail or deliver comments on these special conditions in duplicate to: Federal Aviation Administration, Transport Airplane Directorate, Attn: Rules Docket (ANM-113), Docket No. NM356, 1601 Lind Avenue SW., Renton, Washington, 98057-3356. You must mark your comments: Docket No. NM356.

FOR FURTHER INFORMATION CONTACT: John Shelden, FAA, Airframe and Cabin Safety Branch, Transport Airplane Directorate, Aircraft Certification Service, 1601 Lind Avenue, SW., Renton, Washington 98057-3356; telephone (425) 227-2785; facsimile (425) 227-1100; e-mail john.shelden@faa.gov.

SUPPLEMENTARY INFORMATION: The FAA has determined that notice and opportunity for prior public comment for these special conditions is impracticable because this procedure would significantly delay certification and delivery of the affected aircraft. In addition, the substance of these special conditions has been subject to the public comment process in several prior instances with no substantive comments received. We therefore find that good cause exists for making these special conditions effective upon issuance. However, we invite interested persons to take part in this rulemaking by sending written comments. The most helpful comments reference a specific portion of the special conditions, explain the reason for any recommended change, and include supporting data. We ask that you send us two copies of written comments.

We will file in the docket all comments we receive, as well as a report summarizing each substantive public contact with FAA personnel about these special conditions. You may inspect the docket before and after the comment closing date. If you wish to review the docket in person, go to the address in the ADDRESSES section of this preamble between 7:30 a.m. and 4 p.m., Monday through Friday, except Federal holidays.

We will consider all comments we receive by the closing date for comments. We will consider comments filed late if it is possible to do so without incurring expense or delay. We may change these special conditions based on the comments we receive.

If you want us to let you know we received your comments on these special conditions, include with your comments a pre-addressed, stamped postcard on which the docket number appears. We will stamp the date on the postcard and mail it back to you.

Background

On August 31, 2005, PATS Aircraft LLC applied for a supplemental type certificate for the Boeing Model 737-700 IGW airplane (BBJ serial number 34683). The Boeing Model 737-700 IGW airplane is one of the Boeing Business Jet (BBJ) variants of Model 737 airplanes. It is a large transport category airplane powered by two CFM 56 engines, with a maximum takeoff weight of 171,000 pounds. The modified Boeing Model 737-700 IGW airplane, BBJ serial number 34683, operates with a 2-pilot crew, up to 4 flight attendants, and can hold up to 18 passengers.

The modification consists of installing an electrically heated surface, called a cooktop. Cooktops introduce high heat, smoke, and the possibility of fire into the passenger cabin environment. These potential hazards to the airplane and its occupants must be satisfactorily addressed. Since existing airworthiness regulations do not contain safety standards addressing cooktops, we issue these special conditions.

Type Certification Basis

Under the provisions of § 21.101, PATS Aircraft LLC must show that the 737-700 IGW, as changed, continues to meet the applicable provisions of the regulations incorporated by reference in Type Certificate No. A16WE or the applicable regulations in effect on the date of application for the change. The regulations incorporated by reference in the type certificate are commonly referred to as the “original type certification basis.” The regulations incorporated by reference in A16WE are part 25, as amended by Amendments 25-1 through 25-77, with reversions to earlier amendments, voluntary compliance to later amendments, special conditions, equivalent safety findings, and exemptions listed in the type certificate data sheet.

If the Administrator finds that the applicable airworthiness regulations (14 Code of Federal Regulations (CFR) part 25, as amended) do not contain adequate or appropriate safety standards for the 737-700 IGW because of a novel or unusual design feature, special conditions are prescribed under the provisions of § 21.16.

In addition to the applicable airworthiness regulations and special conditions, the 737-700 IGW must comply with the fuel vent and exhaust emission requirements of 14 CFR part 34 and the noise certification requirements of 14 CFR part 36.

The FAA issues special conditions, as defined in § 11.19, under § 11.38, and they become part of the type certification basis under § 21.101.

Novel or Unusual Design Features

As noted earlier, the modification of the Boeing Model 737-700 IGW airplane, BBJ serial number 34683, will incorporate a cooktop in the passenger cabin. Cooktops introduce high heat, smoke, and the possibility of fire into the passenger cabin environment. The current airworthiness standards of part 25 do not contain adequate or appropriate safety standards to protect the airplane and its occupants from these potential hazards. So this system is considered to be a novel or unusual design feature.

Discussion

Currently, ovens are the prevailing means of heating food on airplanes. Ovens are characterized by an enclosure that contains both the heat source and the food being heated. The hazards presented by ovens are thus inherently limited, and are well understood through years of service experience. Cooktops, on the other hand, are characterized by exposed heat sources and the presence of relatively unrestrained hot cookware and heated food. These may represent unprecedented hazards to both occupants and the airplane.

Cooktops could have serious implications for passenger and airplane safety if appropriate requirements are not established for their installation and use. These special conditions apply to cooktops with electrically powered burners. Use of an open flame cooktop (employing natural gas, for example) is beyond the scope of these special conditions and would require separate rulemaking action. The requirements identified in these special conditions are in addition to those considerations identified in Advisory Circular (AC) 25-10, “Guidance for Installation of Miscellaneous Non-required Electrical Equipment,” and those in AC 25-17, “Transport Airplane Cabin Interiors Crashworthiness Handbook.” The intent of these special conditions is to provide a level of safety consistent with that on similar airplanes without cooktops.

Applicability

As discussed above, these special conditions are applicable to the 737-700 IGW airplane, BBJ serial number 34683, modified by PATS Aircraft LLC. Should PATS Aircraft LLC apply at a later date for a supplemental type certificate to modify any other model included on Type Certificate No. A16WE to incorporate the same novel or unusual design feature, these special conditions would apply to that model as well.

Conclusion

This action affects only certain novel or unusual design features on one model of airplane. It is not a rule of general applicability and affects only the applicant who applied to the FAA for approval of these features on the airplane.

Under standard practice, the effective date of final special conditions would be 30 days after the date of publication in the Federal Register. However, because the certification date for the subject modification to the Boeing Model 737-700 IGW is imminent, the FAA finds that good cause exists to make these special conditions effective upon issuance.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Boeing Model 737-700 IGW BBJ airplane, BBJ serial number 34683, modified by PATS Aircraft LLC:

Cooktop Installations With Electrically-Powered Burners

1. A design feature must be installed to minimize potential for inadvertent personnel contact with hot surfaces of both the cooktop and cookware. Examples of such safety features are conspicuous burner-on indicators, physical barriers, or handholds. Conditions of turbulence must be considered.

2. The design must include sufficient means to restrain cookware and representative contents, such as soups or sauces, while in place on the cooktop, from effects of flight loads and turbulence.

(a) Restraints must be provided to preclude hazardous movement of cookware and contents. These restraints must accommodate any cookware identified for use with the cooktop.

(b) Restraints must be designed to be easily used and effective in service. The cookware restraint system should also be designed so it cannot be easily disabled, thus rendering it unusable.

(c) Placarding must be installed that prohibits use of cookware that cannot be accommodated by the restraint system.

3. Placarding must be installed that prohibits use of cooktops (power on any burner) during taxi, takeoff, and landing (TTL).

4. Means must be provided to address the possibility of a fire occurring on or in the immediate vicinity of the cooktop caused by materials or grease inadvertently coming in contact with the burners.

Note: Two acceptable means of complying with this requirement are as follows:

• Placarding must be installed that prohibits power on any burner when the cooktop is unattended. This would prohibit a single person from cooking on the cooktop and intermittently serving food to passengers while any burner is powered. A fire detector which provides an audible warning in the passenger cabin must be installed in the vicinity of the cooktop. In addition, a fire extinguisher of appropriate size and extinguishing agent must be installed in the immediate vicinity of the cooktop. A fire on or around the cooktop must not block access to the extinguisher. One of the fire extinguishers required by § 25.851 may be used to satisfy this requirement if the total complement of extinguishers can be evenly distributed throughout the cabin. If this is not possible, then the extinguisher in the galley area would be additional.

or

• An automatic, thermally-activated fire suppression system must be installed to extinguish a fire on the cooktop and immediately adjacent surfaces. The agent used in the system must be an approved total flooding agent suitable for use in occupied areas. The fire suppression system must have a manual override. Automatic activation of the fire suppression system must also automatically shut off power to the cooktop.

5. Galley surfaces surrounding the cooktop, which would be exposed to a fire on the cooktop surface or in cookware on the cooktop, must be constructed of materials complying with flammability requirements of 14 CFR part 25, Appendix F part III. This requirement is in addition to the flammability standards typically required of these galley surface materials. During selection of these materials, consideration must also be given to ensuring that the flammability characteristics of the materials will not be adversely affected by cleaning agents and utensils used to remove cooking stains.

6. The cooktop must be ventilated with a system independent of the airplane cabin and cargo ventilation system. Procedures and time intervals must be established to inspect and clean or replace the ventilation system to prevent a fire hazard from accumulation of flammable oils. These procedures and time intervals must be included in the Instructions for Continued Airworthiness (ICA). The ventilation system ducting must be protected by a flame arrestor.

Note: The applicant may find additional useful information in “Air Conditioning Systems for Subsonic Airplanes,” Society of Automotive Engineers, Aerospace Recommended Practice 85, Rev. E, dated August 1, 1991.

7. Means must be provided to contain spilled foods or fluids in a manner that will prevent creation of a slipping hazard to occupants and will not lead to loss of structural strength due to airplane corrosion.

8. Cooktop installations must provide adequate space for the user to immediately escape a hazardous cooktop condition.

9. A means to shut off power to the cooktop must be provided both in the galley containing the cooktop and in the cockpit. If additional switches are introduced in the cockpit, revisions to smoke or fire emergency procedures of the AFM will be required.

10. A readily deployable cover must be provided to cover the cooktop during taxi, takeoff, and landing (TT&L) operation. Deployment of the cover must automatically shut off power to the cooktop.

Issued in Renton, Washington, on October 13, 2006.
Kalene C. Yanamura,
Acting Manager, Transport Airplane Directorate, Aircraft Certification Service.

[FR Doc. E6-18281 Filed 10-30-06; 8:45 am]

BILLING CODE 4910-13-P